NATIONAL SCIENCE FOUNDATION

Advisory Committee for STEM Education; Notice of Meeting

In accordance with the Federal Advisory Committee Act (Pub. L. 92-463, as amended), the U.S. National Science Foundation (NSF) announces the following meeting:

Name and Committee Code: Advisory Committee for STEM Education (#1119) (Hybrid Meeting).

Date and Time:

May 29, 2024; 9:30 a.m.-5:30 p.m. (EDT).

May 30, 2024; 9:30 a.m.-2:00 p.m. (EDT).

Place: U.S. National Science Foundation, 2415 Eisenhower Avenue, Rooms E2020/E2030, Alexandria, VA 22314 (Hybrid).

All visitors may attend this meeting in-person or virtually. To attend, all visitors must register at least 48 hours before the meeting using the following link: https://nsf.zoomgov.com/webinar/register/WN_yAvM_J3bTyierkuVhFDppw.

The final meeting agenda will be posted to the EDU Advisory Committee website at: https://www.nsf.gov/edu/advisory.jsp.

Type of Meeting: Open.

Contact Person: Mr. Keaven M. Stevenson, U.S. National Science Foundation, 2415 Eisenhower Avenue, Room C11001, Alexandria, VA 22314; Telephone: (703) 292-8600/email: (kstevens@nsf.gov).

Summary of Minutes: Minutes and meeting materials will be available on the EDU Advisory Committee website at: https://www.nsf.gov/edu/advisory.jsp or can be obtained from Dr. Bonnie A. Green, U.S. National Science Foundation, 2415 Eisenhower Avenue, Alexandria, VA 22314; Telephone: (703) 292-8600/email: (bongreen@nsf.gov).

Purpose of Meeting: To provide advice to the Foundation's science, technology, engineering, and mathematics (STEM) education and human resources programming.

Agenda: Meeting Theme: Rural and Remote Communities: Examining Ways to Unleash STEM Education and Workforce Opportunities.

Wednesday, May 29, 2024, 9:30 a.m.-5:30 p.m. (EDT)

• Welcoming Remarks: EDU Advisory Committee Chair and Assistant Director

• Session 1: Understanding Rural STEM Education and Workforce Development

• Session 2: Voices from the Field:The Impact of NSF/EDU Investments

• Session 3: Principal Investigators' Panel:Rural STEM Education and Workforce Development

• Session 4: Breakout Discussion:Unleashing Opportunities in Rural and Remote Communities

• Closing Remarks: EDU Advisory Committee Chair and Assistant Director

Thursday, May 30, 2024, 9:30 a.m.-2:00 p.m. (EDT)

• Session 5: Rural STEM Education and Workforce Development Across EDU Divisions

• Session 6: Pulling it all Together to Unleash Opportunities in STEM Education

• Discussion: EDU Advisory Committee along with NSF Chief Operating Officer

• Closing Remarks: EDU Advisory Committee Chair and Assistant Director

Dated: April 30, 2024.
Crystal Robinson,
Committee Management Officer.

[FR Doc. 2024-09673 Filed 5-2-24; 8:45 am]

BILLING CODE 7555-01-P